DEPARTMENT OF COMMERCE

International Trade Administration

[A-583-008]

Certain Circular Welded Carbon Steel Pipes and Tubes From Taiwan: Preliminary Results of Antidumping Duty Administrative Review; 2017-2018

AGENCY: Enforcement and Compliance, International Trade Administration, Department of Commerce.

SUMMARY: The Department of Commerce (Commerce) preliminarily finds that exporters of certain circular welded carbon steel pipe and tubes from Taiwan sold subject merchandise in the United States at prices below normal value during the period of review (POR) May 1, 2017 through April 30, 2018. We invite all interested parties to comment on these preliminary results.

DATES: Applicable July 18, 2019.

FOR FURTHER INFORMATION CONTACT: Rachel Greenberg, AD/CVD Operations, Office V, Enforcement and Compliance, International Trade Administration, U.S. Department of Commerce, 1401 Constitution Avenue NW, Washington, DC 20230; telephone: (202) 482-0652.

SUPPLEMENTARY INFORMATION:

Background

Commerce is conducting an administrative review of the antidumping duty order on certain circular welded carbon steel pipes and tubes from Taiwan in accordance with section 751(a)(1)(B) of Tariff Act of 1930, as amended (the Act).¹ On July 12, 2018, in accordance with 19 CFR 351.221(c)(1)(i), we initiated an administrative review of the Order covering 20 companies.² On July 24, 2018, Commerce selected one producer/exporter of subject merchandise, Shin Yang Steel Co., Ltd. (Shin Yang), as the sole mandatory respondent for this review.³

¹ See Certain Circular Welded Carbon Steel Pipes and Tubes from Taiwan: Antidumping Duty Order, 49 FR at 19369 (May 7, 1984) (Order).

² See Initiation of Antidumping and Countervailing Duty Administrative Reviews, 83 FR 32270 (July 12, 2018) (Initiation Notice).

³ See Memorandum, “Respondent Selection,” dated October 2, 2018 (Respondent Selection Memorandum).

On December 6, 2018, Commerce exercised its discretion to extend the deadline for the preliminary results.⁴ Additionally, Commerce exercised its discretion to toll all deadlines affected by the partial federal government closure from December 22, 2018 through the resumption of operations on January 29, 2019, resulting in a revised deadline of July 10, 2019.⁵

⁴ See Memorandum, “Certain Circular Welded Carbon Steel Pipes and Tubes from Taiwan: Extension of Deadline for Preliminary Results of Antidumping Administrative Review,” dated December 6, 2018.

⁵ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The products covered by the Order are certain circular welded carbon steel pipes and tubes. The products are currently classifiable under the Harmonized Tariff Schedule of the United States (HTSUS) subheadings: 7306.30.5025, 7306.30.5032, 7306.30.5040, and 7306.30.5055. Although the HTSUS subheadings are provided for convenience and customs purposes, the written product description of the scope of the Order remains dispositive. For a full description of the scope, see the Preliminary Decision Memorandum.⁶

⁶ See Memorandum, “Decision Memorandum for the Preliminary Results of Antidumping Administrative Review: Certain Circular Welded Carbon Steel Pipes and Tubes from Taiwan; 2017-2018” dated concurrently with, and hereby adopted by, this notice (Preliminary Decision Memorandum).

Methodology

Commerce is conducting this review in accordance with section 751 of the Act. Export price is calculated in accordance with section 772 of the Act. Normal value is calculated in accordance with section 773 of the Act. For a full description of the methodology underlying the preliminary results, see the Preliminary Decision Memorandum. A list of topics discussed in the Preliminary Decision Memorandum is attached as an Appendix to this notice.

The Preliminary Decision Memorandum is a public document and is on file electronically via Enforcement and Compliance's Antidumping and Countervailing Duty Centralized Electronic Service System (ACCESS). ACCESS is available to registered users at https://access.trade.gov, and to all parties in the Central Records Unit, Room B8024 of the main Commerce building. In addition, a complete version of the Preliminary Decision Memorandum can be accessed directly at http://enforcement.trade.gov/frn/. The signed and electronic versions of the Preliminary Decision Memorandum are identical in content.

Preliminary Determination of No Shipments

From July 18, 2018 through July 26, 2018, Sheng Yu Steel Co., Ltd. (Sheng Yu), Tension Steel Industries Co., Ltd. (Tension Steel), Yieh Hsing Enterprise. Co., Ltd. (Yieh Hsing), and Pat & Jeff Enterprise Co. Ltd. (P&J) timely filed statements reporting that they each made no shipments of subject merchandise to the United States during the POR. Subsequently, we received information from the U.S. Customs and Border Protection (CBP) confirming the no-shipment claims from Sheng Yu, Tension Steel, Yieh Hsing, and P&J. Based on the foregoing, Commerce preliminarily determines that Sheng Yu, Tension Steel, Yieh Hsing, and P&J had no shipments during the POR. For additional information regarding this determination, see the Preliminary Decision Memorandum. Consistent with our practice, Commerce is not rescinding this administrative review with respect to Sheng Yu, Tension Steel, Yieh Hsing, and P&J at this time, but intends to complete the review and issue appropriate instructions to CBP based on the final results of this review.⁷

⁷ See e.g., Certain Frozen Warmwater Shrimp from Thailand: Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Preliminary Results of This Review

As a result of this review, we calculated a preliminary weighted-average dumping margin of 2.44 percent for Shin Yang for the POR. Therefore, in accordance with section 735(c)(5)(A) of the Act, we assigned this weighted-average dumping margin of 2.44 percent calculated for Shin Yang to the fifteen companies not selected for individual review in these preliminary results, as referenced below. We preliminarily determine that the following weighted-average dumping margins exist for the period of May 1, 2017 through April 30, 2018:

Exporter/producer | Weighted- average dumping margin (percent)
Shin Yang Steel Co., Ltd | 2.44
Chung Hung Steel Corp | 2.44
Far East Machinery Co., Ltd | 2.44
Far East Machinery Group | 2.44
Fine Blanking & Tool Co., Ltd | 2.44
Hou Lih Co., Ltd | 2.44
Kao Hsing Chang Iron & Steel Corp | 2.44
Lang Hwang Corp | 2.44
Locksure Inc | 2.44
New Chance Products Co., Ltd | 2.44
Pin Tai Metal Inc | 2.44
Shang Jouch Industrial Co., Ltd | 2.44
Shuan Hwa Industrial Co., Ltd | 2.44
Titan Fastech Ltd | 2.44
Yeong Shien Industrial Co., Ltd | 2.44
Yousing Precision Industry Co., Ltd | 2.44

Assessment Rates

Upon issuance of the final results, Commerce shall determine, and CBP shall assess, antidumping duties on all appropriate entries covered by this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).⁸ We will instruct CBP to assess antidumping duties on all appropriate entries covered by this review when the importer-specific assessment rate calculated in the final results of this review is not zero or de minimis. If Shin Yang's weighted-average dumping margin is zero or de minimis, we will instruct CBP to liquidate the appropriate entries without regard to antidumping duties. The final results of this review shall be the basis for the assessment of antidumping duties on entries of merchandise covered by this review where applicable.

⁸ In these preliminary results, Commerce applied the assessment rate calculation methodology adopted in Antidumping Proceedings: Calculation of the Weighted-Average Dumping Margin and Assessment Rate in Certain Antidumping Proceedings: Final Modification, 77 FR 8101 (February 14, 2012).

In accordance with Commerce's “automatic assessment” practice, for entries of subject merchandise during the POR produced by Shin Yang for which it did not know that the merchandise was destined for the United States, we will instruct CBP to liquidate those entries at the all-others rate if there is no rate for the intermediate company(ies) involved in the transaction. We intend to issue instructions to CBP 15 days after the publication date of the final results of this review.

Cash Deposit Requirements

The following deposit requirements will be effective for all shipments of the subject merchandise entered, or withdrawn from warehouse, for consumption on or after the publication date of the final results of this administrative review, as provided by section 751(a)(2)(C) of the Act: (1) The cash deposit rate for the companies under review will be the rate established in the final results of this review (except, if the ad valorem rate is de minimis, then the cash deposit rate will be zero); (2) for previously reviewed or investigated companies not covered in this review, the cash deposit rate will continue to be the company-specific rate published for the most recently-completed segment of this proceeding in which the company was reviewed; (3) if the exporter is not a firm covered in this review, a prior review, or the original investigation, but the producer is, the cash deposit rate will be the rate established for the most recently-completed segment of this proceeding for the producer of subject merchandise; and (4) the cash deposit rate for all other manufacturers or exporters will continue to be 9.70 percent, the all-others rate established in the investigation.⁹ These cash deposit requirements, when imposed, shall remain in effect until further notice.

⁹ See Order.

Disclosure and Public Comment

Commerce intends to disclose its calculations and analysis performed within ten days of the date of publication of this notice in accordance with 19 CFR 351.224(b). Interested parties are invited to comment on the preliminary results and may submit case briefs and/or written comments within 30 days of the publication of this nature, pursuant to 19 CFR 351.309(c)(1)(ii). Rebuttal briefs, limited to issues raised in case briefs, may be submitted no later than five days after the deadline date for case briefs.¹⁰ Pursuant to 19 CFR 351.309(c)(2) and (d)(2), parties who submit case briefs or rebuttal briefs in this review are encouraged to submit with each argument: (1) A statement of the issue; (2) a brief summary of the argument; and (3) a table of authorities. Case and rebuttal briefs should be filed using ACCESS.

¹⁰ See 19 CFR 351.309; see also 19 CFR 351.303 (for general filing requirements).

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice. Requests should contain: (1) The party's name, address, and telephone number; (2) the number of participants; (3) whether any participant is a foreign national; and (4) a list of issues parties intend to discuss. Issues raised in the hearing will be limited to those raised in the respective case and rebuttal briefs.¹¹ If a request for a hearing is made, Commerce intends to hold the hearing at the U.S. Department of Commerce, 1401 Constitution Avenue NW, Washington, DC 20230, at a time and date to be determined.¹² Parties should confirm by telephone the date, time, and location of the hearing two days before the scheduled date.

¹¹ See 19 CFR 351.310(c).

¹² See 19 CFR 351.310(c).

Unless otherwise extended, Commerce intends to issue the final results of this administrative review, which will include the results of its analysis of issues raised in any briefs, within 120 days of publication of these preliminary results, pursuant to section 751(a)(3)(A) of the Act.

Notification to Importers

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of doubled antidumping duties.

Notification to Interested Parties

The preliminary results of review are issued and published in accordance with sections 751(a)(1) and 777(i)(1) of the Act, and 19 CFR 351.221(b)(4).

Dated: July 10, 2019.
Jeffrey I. Kessler,
Assistant Secretary for Enforcement and Compliance.

Appendix—List of Topics Discussed in the Preliminary Decision Memorandum

I. Summary

II. Background

III. Scope of the Order

IV. Companies Not Selected for Individual Examination

V. Preliminary Determination of No Shipments

VI. Comparisons to Normal Value

VII. Date of Sale

VIII. Export Price

IX. Normal Value

X. Currency Conversion

XI. Recommendation

[FR Doc. 2019-15187 Filed 7-17-19; 8:45 am]

BILLING CODE 3510-DS-P